COMMITTEE FOR PURCHASE FROM PEOPLE WHO ARE BLIND OR SEVERELY DISABLED

Procurement List; Proposed Additions and Deletions

AGENCY: Committee for Purchase From People Who Are Blind or Severely Disabled.

ACTION: Proposed additions to and deletions from the procurement list.

SUMMARY: The Committee is proposing to add product(s) to the Procurement List that will be furnished by nonprofit agencies employing persons who are blind or have other severe disabilities, and deletes product(s) previously furnished by such agencies.

DATES: Comments must be received on or before: October 31, 2021.

ADDRESSES: Committee for Purchase From People Who Are Blind or Severely Disabled, 1401 S Clark Street, Suite 715, Arlington, Virginia, 22202-4149.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the product(s) listed below from nonprofit agencies employing persons who are blind or have other severe disabilities.

The following product(s) are proposed for addition to the Procurement List for production by the nonprofit agencies listed:

Product(s)

NSN(s)—Product Name(s):

6135-01-554-4281—Battery, Non-rechargeable, 9.0V Lithium

6135-01-616-2203—Battery, Non-rechargeable, 7.5V Alkaline

Designated Source of Supply: Eastern Carolina Vocational Center, Inc., Greenville, NC

Contracting Activity: DEFENSE LOGISTICS AGENCY, DLA LAND AND MARITIME

Mandatory for: 100% of the requirement of the Department of Defense

List Designation: C-List

Deletions

The following product(s) are proposed for deletion from the Procurement List:

Product(s)

NSN(s)-Product Name(s):

8105-LL-S05-0146—Bag, Polyethylene, Non-Asbestos Waste, 24″W x 48″L, Opaque Green with Black Printing

8105-LL-S05-0147—Bag, Polyethylene, Non-Asbestos Waste, 36″W x 48″L, Opaque Green with Black Printing

8105-LL-S05-0148—Bag, Polyethylene, Non-Asbestos Waste, 14″W x 48″L, Opaque Green with Black Printing

8105-LL-S04-7842—Bag, Polyethylene, Asbestos Waste, 24″W x 48″L, 6-10 MIL, Opaque Blue with White Printing

8105-LL-S04-7843—Bag, Polyethylene, Asbestos Waste, 36″W x 48″L, 6-10 MIL, Opaque Blue with White Printing

8105-LL-S05-0018—Bag, Polyethylene, Asbestos Waste, 12″W x 24″L, 6-10 MIL, Opaque Blue with White Printing

Designated Source of Supply: Open Door Center, Valley City, ND

Contracting Activity: DLA MARITIME—PUGET SOUND, BREMERTON, WA

Michael R. Jurkowski,
Acting Director, Business Operations.

[FR Doc. 2021-21407 Filed 9-30-21; 8:45 am]

BILLING CODE 6353-01-P